DEPARTMENT OF TRANSPORTATION

Surface Transportation Board

[STB Finance Docket No. 34847]

Lucas Rail Lines, Inc.—Acquisition and Operation Exemption—BPM Rail, Inc.

Lucas Rail Lines, Inc. (LRL), a noncarrier, has filed a verified notice of exemption under 49 CFR 1150.31 to acquire from BPM Rail, Inc., d/b/a Louisville, New Albany & Corydon Railroad (LNAC), and operate 7.7 miles of rail line between milepost 0.0, at Corydon Junction, IN, and milepost 7.7, at Corydon, IN, as well as approximately 2.3 miles of side track and lead tracks.

LRL certifies that its projected revenues as a result of the transaction will not exceed those that would qualify it as a Class III rail carrier and will not exceed $5 million.

The transaction was expected to be consummated on or after April 1, 2006, dependent upon the effective date of this notice of exemption and receipt of grant deeds to LNAC real property.

If the verified notice contains false or misleading information, the exemption is void ab initio. Petitions to revoke the exemption under 49 U.S.C. 10502(d) may be filed at any time. The filing of a petition to revoke will not automatically stay the transaction.

An original and 10 copies of all pleadings, referring to STB Finance Docket No. 34847, must be filed with the Surface Transportation Board, 1925 K Street, NW., Washington, DC 20423-0001. In addition, one copy of each pleading must be served on Robert Patison, 302 North Sheridan Street, Corona, CA 92880-2067.

Board decisions and notices are available on our Web site at http://www.stb.dot.gov.

Decided: April 11, 2006.
By the Board, David M. Konschnik, Director, Office of Proceedings.
Vernon A. Williams,
Secretary.

[FR Doc. E6-5647 Filed 4-19-06; 8:45 am]

BILLING CODE 4915-01-P